DEPARTMENT OF AGRICULTURE

Food and Nutrition Service

Agency Information Collection Activities: Proposed Collection; Comment Request—Enhancing Food Stamp Certification: Food Stamp Modernization Efforts

AGENCY: Food and Nutrition Service, USDA.

ACTION: Notice.

SUMMARY: In accordance with the Paperwork Reduction Act of 1995, this notice invites the general public and other public agencies to comment on proposed information collections. This notice announces the Food and Nutrition Service's (FNS) intent to request approval from the Office of Management and Budget (OMB) for new information collection. The Food and Nutrition Service plans to systematically examine the range of efforts States are undertaking to enhance food stamp certification and modernize the Food Stamp Program (FSP). This review will consist of a qualitative study relying on the responses of State and local food stamp staff, partners, food stamp applicants and participants, and eligible non-participants and a quantitative study using extant data. Information obtained will inform FNS policy discussions, provide technical and procedurally relevant information to States, and provide a comprehensive and centralized source of information for assessing ways to improve food stamp certification and respond efficiently to the variety of stakeholder queries received.

DATES: Written comments must be received on or before August 13, 2007.

ADDRESSES: Comments are invited on (a) whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent via U.S. mail to Carol Olander, Food and Nutrition Service, U.S. Department of Agriculture, 3101 Park Center Drive, Room 1022, Alexandria, VA 22302. Comments may also be submitted via fax to the attention of Carol Olander at (703) 305-2576 or via e-mail to carol.olander@fns.usda.gov.

All written comments will be open for public inspection at the office of the Food and Nutrition Service, through prior arrangement with Rosemarie Downer, the project officer, during regular business hours (8:30 a.m., to 5 p.m., Monday through Friday) at 3101 Park Center Drive, Alexandria, Virginia 22302, Room 1022. Rosemarie Downer can be reached at rosemarie.downer@fns.usda.gov.

All responses to this notice will be summarized and included in the request for OMB approval. All comments will be a matter of public record.

FOR FURTHER INFORMATION CONTACT: Requests for additional information or copies of this information collection should be directed to Rosemarie Downer at (703) 305-2129.

SUPPLEMENTARY INFORMATION: Title: Enhancing Food Stamp Certification: Food Stamp Modernization Efforts.

OMB Number: Not Yet Assigned.

Expiration Date: To be determined.

Type of Request: New collection of information.

Abstract: Over the past decade, increased awareness of the importance of the FSP as a basic safety net as well as a critical work support has led to a variety of efforts to expand eligibility, increase program access and reengineer the FSP. At the same time, States are also focusing on ways to increase operational and administrative efficiency and program integrity.

In an effort to document and understand the range of efforts States are employing to enhance the FSP certification process and to modernize FSP administration, FNS plans to develop a comprehensive, national inventory of FSP modernization efforts undertaken in all the States; document key features and outcomes associated with food stamp modernization; systematically describe and compare techniques States are using to modernize the FSP; identify promising practices; and create a single, comprehensive information source on State modernization initiatives. Results of this study will inform FNS policy discussions, provide technical and procedurally relevant information to States, and provide a comprehensive and centralized source of information for assessing ways to improve food stamp certification and responding efficiently to the variety of stakeholder queries received.

Specifically, the study will focus on four types of modernization efforts: policy changes to modernize FSP application, case management, and recertification procedures; reengineering of administrative functions; increased or enhanced use of technology; and partnering arrangements with businesses and nonprofit organizations. The study will examine the impact of these modernization efforts on four types of outcomes: program access, administrative cost, program integrity, and customer services.

To address these objectives, the study will implement a survey of all 50 States (and the District of Columbia, Guam, Puerto Rico, and the Virgin Islands) that includes State and local FSP administrators and community organizations and for-profit organizations assisting State modernization efforts. Data will also be obtained through: (1) Descriptive case studies incorporating qualitative data through interviews with local and State-level staff as well as community organizations and for-profit contractors; (2) discussion groups with food stamp participants and eligible non-participants and (3) a limited number of brief in-person exit interviews with food stamp applicants and participants. The study will rely on extant data to describe FSP performance before and after the implementation of State modernization efforts with respect to application approval rates, participation rates, payment accuracy, administrative costs and other outcomes.

Survey, interview and focus group questions will be kept as simple and respondent-friendly as possible. Responses to all questions will be voluntary. The Food and Nutrition Service will take the following steps to treat the data provided in a confidential manner: (1) No data will be released in a form that identifies individual respondents by name and (2) information collected through interviews will be combined across other respondents in the same category and reported in aggregate form. Respondents will be notified of the confidentiality measures during data collection.

Affected Public: Staff involved in or knowledgeable about modernization efforts at the State level, including FSP directors, policy and operations staff, Management Information System (MIS) and data reporting staff and call center staff; staff from local food stamp offices; State and local staff from community organizations and for-profit contractors assisting with food stamp modernization efforts; and food stamp applicants, participants, and eligible non-participants.

Estimated Number of Respondents: 804. This number represents the sum of State-level FSP staff involved in food stamp modernization efforts, community organization staff or for-profit contractor staff involved in food stamp modernization efforts, food stamp applicants and participants, and eligible non-participants.

Estimated Number of Responses per Respondent: 1. For the State-level respondents, 14 will be respondents twice (once to a survey and once to an in-person interview) and the rest will respond once. For the local-level respondents, 28 respondents will be respondents twice and the rest will respond once.

Estimated Annual Responses: 804.

Estimated Hours per Response: 1.75. All burden estimates include respondents' time to prepare for and complete surveys, administrative interviews, focus groups, or exit interviews with FSP applicants and participants. Surveys: 2 hours each for State and local level FSP interviews and 1 hour each for community representative or for-profit contractors; in-person administrative interviews: 1 hour each; focus groups: 1.5 hours per participant; exit interviews with FSP applicants and participants: 10 minutes each.

Estimated Total Annual Burden: 1404 hours.

Dated: June 7, 2007.
Roberto Salazar,
Administrator, Food and Nutrition Service.

[FR Doc. E7-11482 Filed 6-13-07; 8:45 am]

BILLING CODE 3410-30-P